SMALL BUSINESS ADMINISTRATION

Data Collection Available for Public Comments

ACTION: 60-Day notice and request for comments

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before November 3, 2025.

ADDRESSES: Send all comments to Alison Evans, Office of Investment and Innovation, 409 3rd Street SW, Suite 6300, Washington, DC 20416 with the subject line: “Regional Innovation Cluster Quarterly and Annual Reporting”

FOR FURTHER INFORMATION CONTACT: Alison Evans, Innovation Ecosystem Strategist, (202) 856-7386, alison.evans@sba.gov, or Shauniece Carter, Interim Agency Clearance Officer, (202) 921-2198, Shauniece.Carter@sba.gov.

SUPPLEMENTARY INFORMATION: This is a new collection for the U.S. Small Business Administration's (SBA) Regional Innovation Cluster (RIC) Program. This data collection is an online form to be completed by the administrators of SBA-funded RICs. The form enables SBA to track cluster membership, small businesses served, types of small business assistance, and small business outcomes.

Through the RIC Program, the SBA invests regional clusters—geographic concentrations of interconnected companies, specialized suppliers, academic institutions, service providers, and associated organizations with a specific industry focus—throughout the United States that span a variety of industries, ranging from energy and manufacturing to advanced defense technologies. The standardized metrics collection enables SBA to rigorously track amount and type of small business support across individual RICs and review programmatic outcomes.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Number: New Data collection.

(1) Title: Regional Innovation Cluster Quarterly and Annual Reporting.

Description of Respondents: Regional Innovation Cluster administrators (contractors).

Total Estimated Annual Responses: 80.

Total Estimated Annual Hour Burden: 400.

Shauniece Carter,
Interim Agency Clearance Officer.

[FR Doc. 2025-16884 Filed 9-2-25; 8:45 am]

BILLING CODE 8026-09-P